DEPARTMENT OF VETERANS AFFAIRS

President's Task Force To Improve Health Care Delivery for Our Nation's Veterans; Notice of Meeting

The Department of Veterans Affairs (VA) gives notice under Public Law 92-463 (Federal Advisory Committee Act) that a meeting of the President's Task Force to Improve Health Care Delivery for Our Nation's Veterans is scheduled for Wednesday, June 5, 2002, beginning at 9 a.m. and adjourning at 4 p.m. and Thursday, June 6, 2002, beginning at 8:30 a.m. and adjourning at 11:30 a.m. The June 5 session will be held in the Horizon Ballroom of the Ronald Reagan Building International Trade Center, 1300 Pennsylvania Avenue, NW., Washington, DC. The June 6 session will be held in the First Floor Conference Room of the VFW Memorial Building, 200 Maryland Avenue, NE., Washington, DC. Both sessions are open to the general public.

The purpose of the President's Task Force to Improve Health Care Delivery for Our Nation's Veterans is to:

(a) Identify ways to improve benefits and services for Department of Veterans Affairs (VA) beneficiaries and Department of Defense (DoD) military retirees who are also eligible for benefits from VA, through better coordination of the activities of the two departments;

(b) Identify opportunities to remove barriers that impede VA and DoD coordination, including budgeting processes, timely billing, cost accounting, information technology, and reimbursement; and

(c) Identify opportunities through partnership between VA and DoD, to maximize the use of resources and infrastructure, including buildings, information technology and data sharing systems, procurement of supplies, equipment and services.

On the morning of June 5, the Vision Work Group and the Leadership Work Group will brief the Committee. During the afternoon session, the Benefits and Services Work Group, Resources and Budgeting Work Group, and Pharmaceuticals Work Group will brief the Committee. On the morning of June 6, the Acquisition and Procurement Work Group, Facilities Work Group, and Information Management/Information Technology Work Group will brief the Committee.

Interested parties can provide written comments to Mr. Dan Amon, Communications Director, President's Task Force to Improve Health Care Delivery for Our Nation's Veterans, 1401 Wilson Boulevard, 4th Floor, Arlington, Virginia 22209.

Dated: May 20, 2002.
By Direction of the Secretary.
Nora E. Egan,
Committee Management Office.

[FR Doc. 02-13096 Filed 5-23-02; 8:45 am]

BILLING CODE 8320-01-M